DEPARTMENT OF HOMELAND SECURITY

U.S. Customs and Border Protection

Air Declaration Zone Test

AGENCY: U.S. Customs and Border Protection; DHS.

ACTION: General notice.

SUMMARY: This document announces that U.S. Customs and Border Protection (CBP) will conduct a Declaration Zone test at air terminal facilities at participating air ports of entry (POEs) to fulfill a regulatory declaration requirement and allow for streamlined processing. Current CBP regulations require each traveler at air POEs to provide an oral or written declaration of all articles brought into the United States, to a CBP officer (CBPO). The test will provide arriving travelers with an alternative method to meet this requirement by allowing a demonstrative initial declaration. During the test, CBP will establish two queues for travelers entering the country to choose from: Items to Declare and No Items to Declare. Known as “Declaration Zones,” these queues will allow travelers entering the country through participating air POEs to make their initial declaration simply by choosing which queue to enter. This notice describes the test, and also sets forth requirements for participating in the test, the duration of the test, and how CBP will evaluate the test. This notice also invites public comment on any aspect of the test.

DATES: The test will begin no earlier than August 19, 2024 and will run for approximately two years. The start date will be in accordance with the air POE's ability to implement the declaration zones. Comments concerning this notice and all aspects of the announced test may be submitted at any time during the test period to the address set forth below.

ADDRESSES: Written comments concerning program, policy, and technical issues may be submitted at any time during the test period via email to BiometricAir@cbp.dhs.gov. Please use “Comment on Declaration Zone Test” in the subject line of the email.

FOR FURTHER INFORMATION CONTACT: Natascha Gutermuth, Program Manager, Biometrics Program Office, Office of Field Operations, U.S. Customs and Border Protection, (202) 417-0096, or email at: Natascha.A.Gutermuth@cbp.dhs.gov.

SUPPLEMENTARY INFORMATION:

Background

Current U.S. Customs and Border Protection (CBP) regulations require each traveler to provide an oral or written declaration of all articles brought into the United States, to a CBP officer (CBPO). See part 148, subpart B of title 19 of the Code of Federal Regulations (19 CFR part 148, subpart B). There are currently three types of Federal Inspection Services (FIS) air port of entry (POE) air terminal facilities: standard, modified egress, and baggage first. At standard air terminal facilities, a traveler is processed by a CBPO at primary inspection to determine whether the traveler may enter the United States. Once cleared for entry, the traveler then proceeds to the baggage area to collect any luggage and subsequently proceeds through the egress area to the facility exit where a CBPO takes an oral declaration from the traveler or collects a written declaration through CBP Form 6059-B if the traveler completes one. See 19 CFR 148.12, 148.13. The CBPO then determines whether the declaration requires the payment of a duty or if further examination is necessary. If either is required, the CBPO refers the traveler to secondary inspection. Otherwise, the traveler may then exit the air terminal facility.

At modified egress air terminal facilities, a traveler is processed by a CBPO at primary inspection to determine whether the traveler may enter the United States. Concurrently, the CBPO takes an oral declaration from the traveler or collects a written declaration through CBP Form 6059-B if the traveler completes one. The CBPO then determines whether the declaration requires the payment of a duty or if further examination is necessary. If either is required, the CBPO refers the traveler to secondary inspection. Once cleared for entry, the traveler proceeds to the baggage area to collect any luggage. The traveler may then exit the air terminal facility without being stopped, unless a roving CBPO engages with the traveler.

At baggage first air terminal facilities, the traveler collects any luggage prior to being processed at primary inspection, where a CBPO then determines whether the traveler may enter the United States. If the traveler is cleared for entry, the CBPO also takes an oral declaration from the traveler or collects a written declaration through CBP Form 6059-B if the traveler completes one. The CBPO then determines whether the declaration requires the payment of a duty or if further examination is necessary. If either is required, the CBPO refers the traveler to secondary inspection. Otherwise, the traveler may then exit the air terminal facility, unless a roving CBPO engages with the traveler.

At all three types of air terminal facilities described above, CBPOs also perform roving enforcement operations within the baggage area and egress area. At any point prior to exiting the air terminal facility, a traveler may be questioned by a CBPO and referred for secondary inspection. Travelers referred to secondary inspection may be directed to complete CBP Form 6059-B, if not already completed.

As air travel returns to, and exceeds, pre-pandemic levels, innovative methods of processing are necessary to ensure the safe and streamlined movement of travelers. Declaration zones, whereby travelers provide an initial declaration via selection of a queue, are an established concept in many countries and are being tested in several U.S. sea POEs. See 86 FR 48436 (Aug. 30, 2021) (announcing a Declaration Zone test at certain cruise terminal facilities); 88 FR 71372 (Oct. 16, 2023) (announcing the extension and expansion of the 2021 test). Declaration zones facilitate the processing of travelers by separating those who need to go directly to a CBPO for additional processing from those who do not. With declaration zones, travelers provide an initial declaration by selecting one of two clearly marked queues, either that they have items to declare or no items to declare. This selection acts as travelers' initial declaration simply through the queue that they choose. This addition of a physical, demonstrative form of declaration would allow CBPOs to shift focus from conducting some of the administrative tasks they do currently, such as taking oral declarations from all applicable travelers and instead focus on conducting roving enforcement operations. Roving CBPOs would be able to use their observation skills, as well as their knowledge of trends and smuggling techniques, to actively monitor and select individuals for inspection. As is the case currently, travelers would still be subject to questions upon inspection, and as the travelers move through the Federal Inspection Station (FIS), as appropriate.

The Air Declaration Zone Test

CBP will conduct an Air Declaration Zone Test under 19 CFR 101.9 to fulfill the declaration requirement, while also allowing for streamlined processing. Current CBP regulations require each traveler to provide an oral or written declaration of all articles brought into the United States, to a CBPO. See 19 CFR part 148, subpart B. The test will provide arriving travelers with an alternative method to meet this requirement by allowing a demonstrative initial declaration through the use of declaration zones at air terminal facilities at certain air POEs. The test does not change any other aspect of the processing of arriving travelers. Travelers will continue to have the option of making an oral or written declaration.

Description and Procedures

Within an air terminal facility, two distinct customs declaration zone queues will be established after travelers collect their luggage: one for No Items to Declare and another for Items to Declare. The location of the queues, either at the entrance to the egress area or prior to processing in primary inspection, will depend on the air terminal facility. At all air terminal facilities, signage will be posted to clearly label the queues. The physical act of selecting the No Items to Declare queue or the Items to Declare queue in and of itself will constitute an initial demonstrative declaration. CBPOs and CBP Agricultural Specialists will conduct roving enforcement operations within the baggage area and egress area to ensure traveler compliance.

No Items To Declare Queue

Travelers who determine that they have nothing to declare will enter the No Items to Declare queue. Depending on the location of the queue in the air terminal facility, the traveler will either proceed to primary inspection or proceed through the egress area to facility exit. CBPOs will conduct roving operations in the No Items to Declare zone to affirm traveler compliance. When the queue is located at the entrance of the egress area, CBPOs will also receive oral declarations and make referrals to secondary inspection as necessary; travelers who are not questioned by CBPOs conducting roving operations proceed to the exit.

Items To Declare Queue

Travelers with items to declare will enter the Items to Declare queue and will present before a CBPO to make an oral declaration. The CBPO will make a determination if duty is owed by the traveler or if additional inspection is warranted. The CBPO will then direct the traveler accordingly.

Referral to Secondary Inspection

If a traveler is referred to secondary inspection at any point, CBPOs will follow standard procedures, including collecting oral and/or written declarations during the referral and inspection. CBPOs will follow current agency policy on declaration amendment opportunities.

Eligibility and Participation Requirements

This test allowing a demonstrative declaration to be an acceptable declaration method will begin at one air POE, Dallas-Fort Worth, Texas. CBP may choose to expand this test to other air POEs during the two-year test period. Any such expansion will be announced on the CBP website, https://www.cbp.gov.

CBP will provide directional signage for use in the implementation of the declaration zones. Port management will coordinate with the airport authority and terminal managers for the printing and posting of the directional signage and for establishing the corresponding queues. The signage is ancillary to the statutory signage currently posted within air terminal facilities and the FIS area. These directional signs will facilitate the declaration zone process and help travelers understand the expectation when entering a specific queue.

CBP will also work with each airline at eligible POEs to develop educational materials to provide to travelers regarding U.S. Customs declaration responsibilities and how travelers should navigate the declaration zones.

Authorization for the Test

The test described in this notice is authorized pursuant to 19 CFR 101.9(a), which allows the Commissioner of CBP to impose requirements different from those specified in the CBP Regulations for purposes of conducting a test program or procedure designed to evaluate the effectiveness of new operational procedures regarding the processing of passengers. This test is authorized pursuant to this regulation as it is designed to evaluate whether allowing a demonstrative initial declaration is a feasible way to fulfill the declaration requirement and allow for streamlined processing.

Waiver of Certain Regulatory Requirements

CBP regulations require each traveler to provide an oral or written declaration of all articles brought into the United States, to a CBP officer. See 19 CFR 148.12, 148.13. The test will provide arriving travelers with an alternative method to meet this requirement by allowing a demonstrative initial declaration. All other requirements of 19 CFR part 148, subpart B, regarding declarations, including those provided by 19 CFR 148.18, regarding failure to declare, and 19 CFR 148.19, regarding false or fraudulent statements, will still apply.

Duration of Test

This test will run for approximately two years, beginning no earlier than August 19, 2024. While the test is ongoing, CBP will evaluate the results and determine whether the test will be extended or otherwise modified. CBP reserves the right to discontinue this test at any time in CBP's sole discretion. CBP will announce any modifications to the duration of the test by notice in the Federal Register.

Evaluation of Declaration Zone Test

CBP will use the results of this test to assess the operational feasibility of allowing an initial demonstrative declaration to be an acceptable method of declaration at air POEs. CBP will evaluate this test based on a number of criteria, including:

• Evaluation of airline customer satisfaction surveys gathering feedback on the debarkation process; and

• Comparison of year-over-year enforcement statistics for each test period to ensure no impact to duty collection or to the frequency of enforcement activities.

Paperwork Reduction Act

The Paperwork Reduction Act (PRA) of 1995 (44 U.S.C. 3507(d)) requires that CBP consider the impact of paperwork and other information collection burdens imposed on the public. As there is no new collection of information required in this document, the provisions of the PRA are inapplicable.

Signing Authority

Troy A. Miller, the Senior Official Performing the Duties of the Commissioner, having reviewed and approved this document, has delegated the authority to electronically sign this document to the Director (or Acting Director, if applicable) of the Regulations and Disclosure Law Division for CBP, for purposes of publication in the Federal Register.

Robert F. Altneu,
Director, Regulations & Disclosure Law Division, Regulations & Rulings, Office of Trade, U.S. Customs and Border Protection.

[FR Doc. 2024-15947 Filed 7-18-24; 8:45 am]

BILLING CODE 9111-14-P